ENVIRONMENTAL PROTECTION AGENCY

[CERCLA-04-2024-7011; FRL-11975-01-R4]

Aberdeen Contaminated Groundwater Site, Aberdeen, North Carolina; Cashout Settlement Agreement

AGENCY: Environmental Protection Agency (EPA).

ACTION: Notice of cashout settlement agreement.

SUMMARY: Under the Comprehensive Environmental Response, Compensation, and Liability Act (CERCLA), the United States Environmental Protection Agency has entered into a settlement with LPC Holdings, Inc., concerning the Aberdeen Contaminated Groundwater Superfund Site located in Aberdeen, North Carolina. The settlement addresses recovery of CERCLA costs for cleanup response actions performed at the Site and costs incurred by EPA.

DATES: The Agency will consider public comments on the proposed settlement until July 11, 2024. The Agency will consider all comments received and may modify or withdraw its consent to the proposed settlement if comments received disclose facts or considerations which indicate that the proposed settlement is inappropriate, improper, or inadequate.

ADDRESSES: Copies of the settlement are available from the Agency by contacting Ms. Paula V. Painter, Program Analyst, using the contact information provided in this notice. Comments may also be submitted by referencing the Site's name through one of the following methods:

Internet: https://www.epa.gov/aboutepa/about-epa-region-4-southeast#r4-public-notices

Email: Painter.Paula@epa.gov

FOR FURTHER INFORMATION CONTACT: Paula V. Painter at 404/562-8887.

Maurice Horsey,
Chief, Enforcement Branch, Superfund & Emergency Management Division.

[FR Doc. 2024-12722 Filed 6-10-24; 8:45 am]

BILLING CODE 6560-50-P